ENVIRONMENTAL PROTECTION AGENCY

40 CFR Part 16

[EPA-HQ-OMS-2023-0020; FRL-10620-04-OMS]

Privacy Act Regulations for EPA; Correction

AGENCY: Environmental Protection Agency (EPA).

ACTION: Final rule; correction.

SUMMARY: The EPA is correcting a final rule published in the Federal Register on November 8, 2023, that revised and updated EPA's Privacy Act regulations to exempt the Office of Inspector General (OIG) Data Analytics Enterprise system of records from certain provisions of the Privacy Act.

DATES: This correction is effective February 6, 2024.

ADDRESSES: The EPA has established a docket for this action under Docket ID No. EPA-HQ-OMS-2023-0020. All documents in the docket are listed on the https://www.regulations.gov website. Although listed in the index, some information is not publicly available, e.g., confidential business information (CBI) or other information whose disclosure is restricted by statute. Certain other material, such as copyrighted material, is not placed on the internet and will be publicly available only in hard copy form. Publicly available docket materials are available electronically through https://www.regulations.gov.

FOR FURTHER INFORMATION CONTACT: Daniel Porter, Director, Data Analytics Directorate, Office of Inspector General, Environmental Protection Agency, 1200 Pennsylvania Avenue NW, Washington, DC 20004; telephone number: 202-309-6449; email address: oig.data_analytics@epa.gov.

SUPPLEMENTARY INFORMATION: The EPA is correcting a final rule that was published in the Federal Register on November 8, 2023, that will be effective on February 6, 2024 (88 FR 76999). The final rule revised and updated EPA's Privacy Act regulations to exempt the OIG Data Analytics Enterprise system of records from certain provisions of the Privacy Act. The final rule did not properly incorporate revisions to EPA's Privacy Act regulations promulgated in a separate rulemaking on November 17, 2023, that became effective on January 16, 2024 (88 FR 80139). This action makes technical corrections and does not change any substantive action taken by the EPA in the November 8, 2023, final rule.

Under the Administrative Procedure Act (APA), 5 U.S.C. 553(b)(B) and (d), notice and comment for this action is unnecessary because it merely makes ministerial corrections to the November 8 final rule and does not impose any burdens on the regulated community.

Do any of the statutory and Executive order review apply to this action?

For a detailed discussion concerning the statutory and Executive order review refer to Unit III. of the November 8, 2023, final rule.

Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

Correction

In FR Doc. 2023-24233, beginning on page 76999 in the Federal Register of November 8, 2023, make the following corrections. On page 77003, beginning in the second column, amendatory instruction 3 for § 16.12 and the accompanying regulatory text are corrected to read as follows:

3. Amend § 16.12 by:

a. Adding paragraph (a)(1)(viii);

b. Revising the first sentence of paragraph (a)(4)(i) and paragraphs (a)(4)(iii), (a)(5) introductory text, and (b)(1)(ii);

c. Adding paragraph (b)(1)(iii); and

d. Revising paragraphs (b)(4)(i) and (ii) and (b)(5) introductory text.

The additions and revisions read as follows:

§ 16.12 Specific exemptions.

(a) * * *

(1) * * *

(viii) EPA-100 OIG Data Analytics Enterprise.

* * * * *

(4) * * *

(i) EPA systems of records 17, 30, 40, 63, 79, and 100 are exempted from the following provisions of the PA, subject to the limitations set forth in 5 U.S.C. 552a(k)(2): 5 U.S.C. 552a(c)(3); (d); (e)(1), (4)(G) and (4)(H); and (f)(2) through (5). * * *

* * * * *

(iii) EPA-17 Online Criminal Enforcement Activities Network (OCEAN), EPA-40 Inspector General Enterprise Management System (IGEMS) Investigative Module, EPA-79 NEIC Master Tracking System, and EPA-100 OIG Data Analytics Enterprise are exempted under 5 U.S.C. 552a(j)(2), and these systems are exempted under 5 U.S.C. 552a(k)(2) only to the extent that the (j)(2) exemption is held to be invalid.

(5) Reasons for exemption. EPA systems of records 17, 21, 30, 40, 63, 79, 83, and 100 are exempted from the provisions of the PA in paragraph (a)(4) of this section for the following reasons:

* * * * *

(b) * * *

(1) * * *

(ii) EPA 40 Inspector General Enterprise Management System (IGEMS) Investigative Module.

(iii) EPA 100 OIG Data Analytics Enterprise.

* * * * *

(4) * * *

(i) EPA 36 and 100 are exempted from 5 U.S.C. 552a(c)(3) and (d). EPA 40 is exempted from the following provisions of the PA, subject to the limitations of 5 U.S.C. 552a(k)(5): 5 U.S.C. 552a(c)(3); (d); (e)(1), (4)(H); and (f)(2) through (5).

(ii) To the extent that records in EPA 40 and 100 reveal a violation or potential violation of law, then an exemption under 5 U.S.C. 552a(k)(2) is also claimed for these records. EPA 40 and 100 are also exempt under 5 U.S.C. 552a(j)(2).

* * * * *

(5) Reasons for exemption. EPA 36, 40, 83, and 100 are exempted from the provisions of the PA in paragraph (b)(4) of this section for the following reasons:

* * * * *

Kimberly Y. Patrick,
Principal Deputy Assistant Administrator, Office of Mission Support.

[FR Doc. 2024-02131 Filed 2-5-24; 8:45 am]

BILLING CODE 6560-50-P